DEPARTMENT OF COMMERCE

National Oceanic and Atmospheric Administration

50 CFR Part 679

[Docket No. 140918791-4999-02]

RIN 0648-XE180

Fisheries of the Exclusive Economic Zone Off Alaska; Reapportionment of the 2015 Gulf of Alaska Pacific Halibut Prohibited Species Catch Limits for the Trawl Deep-Water and Shallow-Water Fishery Categories; Correction

AGENCY: National Marine Fisheries Service (NMFS), National Oceanic and Atmospheric Administration (NOAA), Commerce.

ACTION: Temporary rule; correction.

SUMMARY: The National Marine Fisheries Service (NMFS) is correcting a temporary rule that reapportioned halibut prohibited species catch limits in the Gulf of Alaska (GOA) that published on September 11, 2015. The table in the document contained errors.

DATES: Effective October 16, 2015.

FOR FURTHER INFORMATION CONTACT: Josh Keaton, 907-586-7228.

SUPPLEMENTARY INFORMATION:

Need for Correction

NMFS published the reapportionment of the 2015 Gulf of Alaska Pacific halibut prohibited species catch limits for the trawl deep-water and shallow-water fishery categories on September 11, 2015. The table in the document contained errors in the July 1-September 1 row and the Subtotal January 20-October 1 row. This correction will not affect the fishing operations. These corrections are necessary to provide the correct 2015 halibut PSC apportionments and eliminate potential confusion for participants in the fisheries.

Correction

In the Federal Register of September 11, 2015, (80 FR 54737) in FR Doc. 2015-22934, on page 54738, Table 16 is corrected and reprinted in its entirety to read as follows:

Table 16—Final 2015 Apportionment of Pacific Halibut PSC Trawl Limits Between the Trawl Gear Deep-Water Species Fishery and the Shallow-Water Species Fishery Categories
[Values are in metric tons]
Season | Shallow-water | Deep-water ¹ | Total
January 20-April 1 | 135 | 35 | 170
April 1-July 1 | 291 | 375 | 666
Subtotal of combined first and second season limit (January 20-July 1) | 426 | 410 | 836
July 1-September 1 | 176 | 352 | 528
September 1-October 1 | 132 | Any remainder | 132
Subtotal January 20-October 1 | 734 | 762 | 1,496
October 1-December 31 ² |  |  | 264
Total |  |  | 1,760
¹ Vessels participating in cooperatives in the Central GOA Rockfish Program will receive 191 mt of the third season (July 1 through September 1) deep-water species fishery halibut PSC apportionment.
² There is no apportionment between trawl shallow-water and deep-water species fishery categories during the fifth season (October 1 through December 31).

Classification

The Assistant Administrator for Fisheries, NOAA (AA), finds good cause to waive the requirement to provide prior notice and opportunity for public comment pursuant to the authority set forth at 5 U.S.C. 553(b)(B) as such requirement is impracticable and contrary to the public interest. This correction amendment corrects the unintentional transposition of the 3rd season halibut apportionments between deep-water and shallow water fishery categories in Table 16 and does not change operating practices in the fisheries. Corrections should be made as soon as possible to avoid confusion for participants in the fisheries.

The AA also finds good cause to waive the 30-day delay in the effective date of this action under 5 U.S.C. 553(d)(3). This finding is based upon the reasons provided above for waiver of prior notice and opportunity for public comment.

Authority: 16 U.S.C. 1801 et seq.

Dated: October 13, 2015.
Emily H. Menashes,
Acting Director, Office of Sustainable Fisheries, National Marine Fisheries Service.

[FR Doc. 2015-26372 Filed 10-15-15; 8:45 am]

BILLING CODE 3510-22-P